ENVIRONMENTAL PROTECTION AGENCY

40 CFR Part 271

[FRL-6888-6]

Arizona: Final Authorization of State Hazardous Waste Management Program Revisions

AGENCY: Environmental Protection Agency (EPA).

ACTION: Proposed rule.

SUMMARY: Arizona has applied to EPA for final authorization of the changes to its hazardous waste program under the Resource Conservation and Recovery Act (RCRA). EPA proposes to grant final authorization to Arizona. In the “Rules and Regulations” section of this Federal Register, EPA is authorizing the changes by an immediate final rule. EPA did not make a proposal prior to the immediate final rule because we believe this action is not controversial and do not expect comments that oppose it. We have explained the reasons for this authorization in the preamble to the immediate final rule. Unless we get written comments which oppose this authorization during the comment period, the immediate final rule will become effective on the date it establishes, and we will not take further action on this proposal. If we get comments that oppose this action, we will withdraw the immediate final rule and it will not take effect. We will then respond to public comments in a later final rule based on this proposal. You may not have another opportunity for comment. If you want to comment on this action, you must do so at this time.

DATES: Send your written comments by November 27, 2000.

ADDRESSES: Send written comments to Lisa McClain-Vanderpool, U.S. EPA Region 9, 75 Hawthorne St., (mailcode WST-3) San Francisco, CA 94105. If you have any questions, you may call Ms. McClain-Vanderpool at (415) 744-2086. You may examine copies of the materials submitted by Arizona during normal business hours at the following locations: EPA Region 9, Library, 75 Hawthorne Street, 13th Floor, San Francisco, CA 94105; phone number: (415) 744-1510; or at the Arizona Department of Environmental Quality, 3033 North Central Avenue, Phoenix, AZ 85012; phone number: (602) 207-4211 or (800) 234-5677.

FOR FURTHER INFORMATION CONTACT: Lisa McClain-Vanderpool at (415) 744-2086.

SUPPLEMENTARY INFORMATION: For additional information, please see the immediate final rule published in the “Rules and Regulations” section of this Federal Register.

Dated: September 27, 2000.
Felicia Marcus,
Regional Administrator, Region 9.

[FR Doc. 00-27143 Filed 10-26-00; 8:45 am]

BILLING CODE 6560-50-P